NATIONAL FOUNDATION ON THE ARTS AND THE HUMANITIES

National Council on the Humanities; Advisory Committee; Notice of Meeting

March 16, 2005.

Pursuant to the provisions of the Federal Advisory Committee Act (Pub. L. 92-463, as amended) notice is hereby given that a meeting of the National Council on the Humanities will be held in Washington, DC on April 7-8, 2005.

The purpose of the meeting is to advise the Chairman of the National Endowment for the Humanities with respect to policies, programs, and procedures for carrying out his functions, and to review applications for financial support from the Endowment and to make recommendations thereon to the Chairman.

The meeting will be held in the Old Post Office Building, 1100 Pennsylvania Avenue, NW., Washington, DC. Members will attend in person and by teleconference. The agenda for the session on Thursday, April 7, 2005, consists of a committee meeting of the Preservation and Access committee which will be held from 10 a.m., in Room 507, until adjourned. The session on Friday, April 8, 2005, will convene at 10 a.m., in Room 507, until adjourned. This meeting will not be open to the public pursuant to subsections (c)(4), (c)(6) and (c)(9)(B) of section 552b of Title 5, United States Code because the Council will consider information that may disclose: Trade secrets and commercial or financial information obtained from a person and privileged or confidential; information of a personal nature the disclosure of which will constitute a clearly unwarranted invasion of personal privacy; and information the disclosure of which would significantly frustrate implementation of proposed agency action. I have made this determination under the authority granted me by the Chairman's Delegation of Authority dated July 19, 1993.

Further information about this meeting can be obtained from Mr. Daniel C. Schneider, Advisory Committee Management Officer, Washington, DC 20506, or call area code (202) 606-8322, TDD (202) 606-8282. Advance notice of any special needs or accommodations is appreciated.

Daniel C. Schneider,
Advisory Committee Management Officer.

[FR Doc. 05-5596 Filed 3-21-05; 8:45 am]

BILLING CODE 7536-01-P